FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier and Ocean Freight Forwarder Transportation Intermediary Applicants:

Blue Water Shipping US, Inc., 550 Broad Street, Suite 1001, Newark, NJ 07102, Officers: Viktor E. Sapp, Exec. Vice President, (Qualifying Individual), Kurt Skov, President.

Gutierrez Courier & Cargo, Inc., 2139 N.W. 79th Avenue, Miami, FL 33122, Officers: Diana Rovelo, Vice President, (Qualifying Individual), Marco Tulio Gutierrez, President.

Cargo Logistics Network, Inc., 1825 Cross Beam Road, Suites B & C, Charlotte, NC 28217, Officer: Marion D. Sitton, Managing Director, (Qualifying Individual).

IMPEX Worldwide Inc., 5109 Longwood Drive, Durham, NC 27713, Officers: Vladimir A. Mirovitski, President, (Qualifying Individual), Natalia S. Mirovitskaia, Vice President.

Ocean Freight Forwarder—Ocean Transportation Intermediary Applicant:

Shipping Corporation International, Conley Terminal Masssport Admin. Bldg., Suites 210/215, So. Boston, MA 02127, Officer: Susan E. Lewis, President, (Qualifying Individual).

Dated: August 30, 2002.
Bryant L. VanBrakle,
Secretary.

[FR Doc. 02-22646 Filed 9-5-02; 8:45 am]

BILLING CODE 6730-01-P